DEPARTMENT OF COMMERCE

Census Bureau

Survey of Plant Capacity Utilization

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 24, 2004.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Julius Smith Jr., Census Bureau, Room 2135, Building 4, Washington, DC 20233-6900, 301-763-4683 (or via the Internet at julius.smith.jr@census.gov).

SUPPLEMENTARY INFORMATION:

I. Abstract

The Census Bureau plans to extend the current OMB clearance for the Survey of Plant Capacity Utilization. The survey is conducted annually collecting data for fourth quarter operations. The survey collects, from manufacturing plants and publishers, the value of actual production and the value of production that could have been achieved if operating at “full production” and “emergency production” levels. The survey also collects data on work patterns by shift. These data include hours in operation, production workers, and plant hours worked. The resulting estimates are used in measuring inflationary pressures, capital flows, production indexes and analyzing and forecasting economic and industrial trends. The survey results are primarily used by the Federal Reserve Board, Federal Emergency Management Agency, and the Department of Defense.

II. Method of Collection

The Census Bureau will use the mail out/mail back survey forms to collect the data. Companies will be asked to respond within 30 days of the initial mailing. This due date will be imprinted at the top of the form. Letters encouraging participation will be mailed to companies that have not responded by the designated time.

III. Data

OMB Number: 0607-0175.

Form Number: MQ-C1.

Type of Review: Regular.

Affected Public: Manufacturing and publishing plants.

Estimated Number of Respondents: 17,000.

Estimated Time Per Response: 2.25 hours.

Estimated Total Annual Burden Hours: 38,250.

Estimated Total Annual Cost: The estimated cost to the respondents is $627,683.

Respondents Obligation: Mandatory.

Legal Authority: Title 13, U.S. Code, section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 19, 2004.
Madeleine Clayton,
Office of the Chief Information Officer.

[FR Doc. 04-6602 Filed 3-23-04; 8:45 am]

BILLING CODE 3510-07-P